DEPARTMENT OF AGRICULTURE

Agricultural Marketing Service

7 CFR Part 110

[Docket No. AMS-AMS-25-0019]

RIN 0581-AE38

Rescission of Recordkeeping on Restricted Use Pesticides by Certified Applications

AGENCY: Agricultural Marketing Service (AMS), U.S. Department of Agriculture.

ACTION: Final rule.

SUMMARY: This action rescinds regulations pertaining to Recordkeeping on Restricted Use Pesticides by Certified Applicators; Surveys and Reports.

DATES: The final rule is effective July 11, 2025.

FOR FURTHER INFORMATION CONTACT: Erin Morris, Associate Administrator, AMS, USDA, Room 2055-S, 1400 Independence Ave. SW, Washington, DC 20250; Telephone (202) 690-4024, or Email erin.morris@usda.gov.

SUPPLEMENTARY INFORMATION: The United States Department of Agriculture's (USDA) regulations governing Recordkeeping on Restricted Use Pesticides by Certified Applicators; Surveys and Reports are contained in part 110 of title 7 of the Code of Federal Regulations (CFR). These regulations set forth the requirements for recordkeeping on restricted use pesticides by all certified private and commercial applicators. These regulations require the Secretary of Agriculture, in consultation with the Administrator of the Environmental Protection Agency (EPA), to ensure certified applicators of restricted use pesticides (described under 7 U.S.C. 136a(d)(1)(C)) maintain records comparable to records maintained by commercial applicators of pesticides in each State. Upon reviewing these regulations, USDA has determined that they should be rescinded due to their obsolescence.

The record-keeping program was defunded and closed on September 30, 2012, when it was determined that the Federal funding was insufficient to cover the costs of all State cooperators. Twenty-three State programs have since come to operate their own programs and (1) have implemented procedures to inspect certified applicators when complaints are filed; or (2) they combine pesticide recordkeeping inspections with other State and Federal inspections during one visit to a certified private pesticide applicator. These State programs produce and distribute their own educational outreach materials and information.

Other State programs that operated under the Federal regulations and were no longer funded discontinued surveillance or random inspections of certified private pesticide applicators and no longer provided educational outreach and materials. Many of these States have continued to conduct pesticide recordkeeping inspections when a complaint is registered against a certified applicator in order to support State compliance actions.

Furthermore, upon closure of the program, the EPA incorporated training on many of the recordkeeping and reporting requirements into Worker Protection Standards, which apply to many certified private pesticide applicator operations.

USDA has determined that each of these reasons, independently and alone, justifies rescission of the Recordkeeping on Restricted Use Pesticides by Certified Applicators; Surveys and Reports regulations. Regardless of the benefits of the regulations, USDA must not maintain regulations that are obsolete. USDA has determined that there is no reliance interest in an obsolete regulation. Moreover, regardless of the lawfulness, USDA has no interest in maintaining a rule that is obsolete.

To the extent there is any uncertainty about the costs and benefits of the Recordkeeping on Restricted Use Pesticides by Certified Applicators; Surveys and Reports regulations, it is the policy of USDA to err on the side of deregulation. USDA's limited resources should be focused on fairly and rationally enforcing a discrete and manageable number of regulations. The regulations in Recordkeeping on Restricted Use Pesticides by Certified Applicators; Surveys and Reports are not a priority.

List of Subjects in 7 CFR Part 110

Administrative practice and procedure, Agricultural commodities, Intergovernmental relations, Penalties, Pesticides and pests, Reporting and recordkeeping requirements.

Under the authority of 7 U.S.C. 136a(d)(1)(c), 136i-1, and 450; 7 CFR 2.17, 2.50; and for the reasons set forth in the preamble, AMS amends 7 CFR subtitle B chapter 1 as follows:

PART 110—[REMOVED]

1. Remove part 110.

Bruce Summers,
Administrator, Agricultural Marketing Service.

[FR Doc. 2025-08220 Filed 5-9-25; 8:45 am]

BILLING CODE P